ENVIRONMENTAL PROTECTION AGENCY

[EPA-HQ-OPP-2011-0933; FRL-9328-2]

Imidacloprid, Oxamyl, and Methomyl; Notice of Receipt of Requests to Voluntarily Amend Pesticide Registrations To Terminate Certain Uses

AGENCY: Environmental Protection Agency (EPA).

ACTION: Notice.

SUMMARY: In accordance with section 6(f)(1) of the Federal Insecticide, Fungicide, and Rodenticide Act (FIFRA), as amended, EPA is issuing a notice of receipt of requests by registrants to voluntarily amend certain imidacloprid product registrations to delete use on almonds, to voluntarily amend oxamyl product registrations to delete use on soybeans, and to voluntarily amend methomyl product registrations to delete use on grapes. The requests would not terminate the last imidacloprid, oxamyl, or methomyl products registered for use in the United States. EPA intends to grant these requests at the close of the comment period for this announcement unless it receives substantive comments within the comment period that would merit further review of the request, or unless one or more of the registrants withdraws its request. If the Agency grants these requests, any sale, distribution, or use of products listed in this notice will be permitted after the uses are deleted only if such sale, distribution, or use is consistent with the terms as described in the final order.

DATES: Comments must be received on or before February 10, 2012.

ADDRESSES: Submit your comments, identified by docket identification (ID) number EPA-HQ-OPP-2011-0933 and pesticide active ingredient to which they pertain (imidacloprid, oxamyl, or methomyl), by one of the following methods:

• Federal eRulemaking Portal: http://www.regulations.gov. Follow the on-line instructions for submitting comments.

• Mail: Office of Pesticide Programs (OPP) Regulatory Public Docket (7502P), Environmental Protection Agency, 1200 Pennsylvania Ave. NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2011-0933, and identify the pesticide active ingredient (imidacloprid, oxamyl, or methomyl) to which they pertain. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Contact the appropriate Chemical Review Manager identified in the table in this unit for the pesticide active ingredient of interest:

Pesticide active ingredient | Chemical review manager's name and contact information
Imidacloprid | Rusty Wasem, Telephone number: (703) 305-6979, email address: wasem.russell@epa.gov.
Methomyl | Tom Myers, Telephone number: (703) 308-8589, email address: myers.tom@epa.gov.
Oxamyl | Monica Wait, Telephone number: (703) 347-8019, email address: wait.monica@epa.gov.

Alternatively, you can write to the appropriate Chemical Review Manager's attention at: Pesticide Re-evaluation Division (7508P), Office of Pesticide Programs, Environmental Protection Agency, 1200 Pennsylvania Avenue NW., Washington, DC 20460-0001.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How do I submit comments and other related information?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Amend Registrations To Delete Uses

This notice announces receipt by EPA of requests from Bayer CropScience, United Phosphorus, Source Dynamics, IPM Resources, Makhteshim Agan, Sharda, and Willowood to delete the almond use from imidacloprid product registrations. This notice also announces receipt by EPA of requests from DuPont Crop Protection to delete the soybean use from oxamyl product registrations and to delete the grape use from methomyl product registrations.

In letters dated February 25, 2011 (Bayer CropScience), March 10, 2011 (United Phosphorus, Source Dynamics, Willowood), March 14, 2011 (Sharda USA LLC), March 16, 2011 (Sharda Worldwide Exports PVT. LTD.), March 17, 2011 (IPM Resources), and March 18, 2011 (Makhteshim Agan), registrants requested that the EPA amend the respective imidacloprid product registrations to delete use on almonds, summarized in Table 1 of Unit III. These cancellations are not due to human health (dietary) issues. Imidacloprid is a systemic neonicotinoid insecticide used on food crops, ornamentals, turf, seed treatments, domestic pets, and structural pests. The deletion of these uses will not terminate the last imidacloprid products registered in the United States.

In a letter dated October 19, 2011, DuPont Crop Protection requested that the EPA amend the respective oxamyl product registrations to delete use on soybeans, summarized in Table 1 of Unit III. Oxamyl is a restricted use N-methyl carbamate (NMC) insecticide, acaricide, miticide, nematicide, and plant growth regulator registered for use on a variety of fruits, vegetables, and field crops. It is a member of the NMC class of chemicals that share a common mechanism of toxicity and inhibit acetylcholinesterase. Use of oxamyl on soybeans was removed from all oxamyl product labels in 2006 following the Oxamyl Reregistration Eligibility Decision. Deletion of the soybean use will not terminate the last oxamyl products registered in the United States.

In a letter dated November 18, 2010, DuPont Crop Protection requested that the EPA amend the respective methomyl product registrations to delete use on grapes, summarized in Table 1 of Unit III. Methomyl is an NMC insecticide and miticide, registered for use on a variety of fruits, vegetables, and field crops. Deletion of the grape use will not terminate the last methomyl products registered in the United States.

III. What action is the agency taking?

This notice announces receipt by EPA of requests from registrants to delete almond uses of imidacloprid product registrations, the soybean uses of oxamyl product registrations, and the grape uses of methomyl product registrations. These requests terminate the use of imidacloprid on almonds, oxamyl on soybeans, and methomyl on grapes. The affected products and the registrants making the requests are identified in Table 1 of this unit.

Unless a request is withdrawn by the registrant or if the Agency determines that there are substantive comments that warrant further review of this request, EPA intends to issue an order amending the affected registrations.

Table 1—Product Registrations With Pending Requests for Amendment
EPA Registration No. | Product name | Active ingredient | Uses to be deleted
264-755 | Imidacloprid Technical | Imidacloprid | Almonds.
264-756 | Merit 75% Concentrate Insecticide | Imidacloprid | Almonds.
264-1131 | Gaucho 600 Flowable Concentrate | Imidacloprid | Almonds.
66222-156 | MANA Alias 4F | Imidacloprid | Almonds.
66222-228 | Pasada 1.6 Flowable Insecticide | Imidacloprid | Almonds.
70506-122 | UPI Imidacloprid Technical Insecticide | Imidacloprid | Almonds.
70506-153 | Imidacloprid 70 DF Agricultural Insecticide | Imidacloprid | Almonds.
70506-154 | Fist 1.6 F Insecticide | Imidacloprid | Almonds.
81598-5 | Rotam Imidacloprid Technical | Imidacloprid | Almonds.
82542-16 | Technical Imidacloprid | Imidacloprid | Almonds.
82542-25 | Imidacloprid 2F Insecticide | Imidacloprid | Almonds.
82633-8 | Imidacloprid Technical | Imidacloprid | Almonds.
83529-6 | Midash Forte Insecticide | Imidacloprid | Almonds.
87290-14 | Willowood Imidacloprid 4SC | Imidacloprid | Almonds.
83558-34 | Imidacloprid Technical Insecticide | Imidacloprid | Almonds.
352-372 | Vydate L Insecticide/Nematicide | Oxamyl | Soybeans.
352-400 | DuPont Oxamyl Technical 42 Insecticide/Nematicide | Oxamyl | Soybeans.
352-532 | Vydate C-LV Insecticide/Nematicide | Oxamyl | Soybeans.
352-361 | DuPont Methomyl Composition | Methomyl | Grapes.
352-366 | DuPont Methomyl Technical | Methomyl | Grapes.

Table 2 of this unit includes the name and address of record for the registrants of the products listed in Table 1 of this unit, by EPA company number. This number corresponds to the first part of the EPA registration numbers of the products listed in Table 1 of this unit.

Table 2—Registrants Requesting Amendment
EPA Company No. | Company name and address
264 | Bayer CropScience, 2 T.W. Alexander Drive, P.O. Box 12014, Research Triangle Park, NC 27709.
352 | E.I. Du Pont de Nemours and Co., Inc., DuPont Crop Protection, 1007 Market Street, Wilmington, DE 19898.
66222 | Makhteshim Agan of North America, Inc., 4515 Falls of Neuse Road, Suite 300, Raleigh, NC 27609.
70506 | United Phosphorus, Inc., 630 Freedom Business Center, Suite 402, King of Prussia, PA 19406.
81598 | IPM Resources LLC, 4032 Crockers Lake Blvd., Suite 818, Sarasota, FL 34238.
82542 | Source Dynamics, Inc., 10039 E. Troon North Drive, Scottsdale, AZ 85262.
82633 | Sharda Worldwide Exports, 7460 Lancaster Pike, Suite 9, Hockessin, DE 19707.
83529 | Sharda USA LLC., 7460 Lancaster Pike, Suite 9, Hockessin, DE 19707.
83558 | Celsius Property B.V. Amsterdam (NL), c/o Makhteshim Agan of North America, Inc., 4515 Falls of Neuse Road, Suite 300, Raleigh, NC 27609.
87290 | Willowood, LLC, 1600 NW Garden Valley Blvd., Suite 130, Roseburg, OR 97471.

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The imidacloprid and methomyl registrants associated with this action have requested EPA waive the 180-day comment period. The oxamyl registrant's request to delete the soybean use does not constitute a minor agricultural use, and as such, the 180-day comment period does not apply. Accordingly, EPA will provide a 30-day comment period on the proposed imidacloprid, oxamyl, and methomyl requests.

V. Procedures for Withdrawal of Requests

Registrants who choose to withdraw a request for product cancellation or use deletion should submit the withdrawal in writing to the person listed under FOR FURTHER INFORMATION CONTACT, no later than 30 days from publication of this notice. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for amendments to delete uses are granted, the Agency intends to publish the cancellation order in the Federal Register.

In any order issued in response to these requests for amendments to delete uses, EPA proposes to include the following provisions for the treatment of any existing stocks of the products listed in Table 1 of Unit III.

For imidacloprid, the registrants listed in Table 1 will be permitted to sell and distribute existing stocks of products under the previously approved labeling for a period of 18 months after publication of the cancellation order in the Federal Register. Thereafter, registrants will be prohibited from selling or distributing the products whose labels include the deleted uses identified in Table 1 of Unit III., except for export consistent with FIFRA section 17 or for proper disposal.

Persons other than the registrant may sell, distribute, or use existing stocks of products (including those of (24c) Special Local Needs Registration) whose labels include the deleted uses until such stocks are exhausted, provided that such sale, distribution, or use is consistent with the terms of the previously approved labeling on, or that accompanied, the deleted uses.

Once EPA has approved amended imidacloprid product labels reflecting the requested amendments to delete almond uses, registrants will be permitted to sell or distribute products under the previously approved labeling for a period of 18 months after the date of Federal Register publication of the cancellation order, unless other restrictions have been imposed. Thereafter, registrants will be prohibited from selling or distributing the products whose labels include the deleted uses identified in Table 1 of Unit III., except for export consistent with FIFRA section 17 or for proper disposal.

For methomyl, now that EPA has approved amended product labels reflecting the requested amendments to delete the grape use, the registrants will be permitted to sell or distribute products under the previously approved labeling until June 8, 2012. Thereafter, registrants will be prohibited from selling or distributing the products whose labels include the deleted uses identified in Table 1 of Unit III., except for export consistent with FIFRA section 17 or for proper disposal. For oxamyl, because the soybean use has not been included on oxamyl product labels since 2006, EPA and the registrant believe that no existing stocks period is needed.

List of Subjects

Environmental protection, Almond, Grape, Imidacloprid, Methomyl, Oxamyl, Pesticides and pests, Soybean.

Dated: December 15, 2011.
Richard P. Keigwin, Jr.,
Director, Pesticide Re-evaluation Division, Office of Pesticide Programs.

[FR Doc. 2012-229 Filed 1-10-12; 8:45 am]

BILLING CODE 6560-50-P